Proclamation 10833 of October 4, 2024

Child Health Day, 2024

By the President of the United States of America

A Proclamation

Our Nation's children deserve every opportunity to reach their biggest dreams—that begins with ensuring our families and children have the resources and support they need to stay healthy and strong. On Child Health Day, we recommit to supporting families as they help their children to lead healthy lives.

When we came into office, Vice President Harris and I promised to give families some well-deserved breathing room so that families could care for their children without worrying about how they were going to pay the bills. That is why my American Rescue Plan expanded the Child Tax Credit, which reduced child poverty by nearly half across the Nation. That law also made our Nation's biggest investment in child care ever, keeping businesses open and hundreds of thousands of child care workers employed to care for children. To lower health insurance costs, I signed the Inflation Reduction Act, saving millions of families $800 per year on their health insurance premiums. And we strengthened the Maternal, Infant, and Early Childhood Home Visiting Program to provide home visits from trained professionals, who can offer prenatal care and postpartum support to new mothers and ensure their children's health and well-being needs are met. We launched the National Maternal Mental Health Hotline at 1-833-TLC-MAMA to help better support pregnant and postpartum moms. We also modernized the Thrifty Food Plan for the first time in nearly five decades so that millions more families can afford nutritious foods. We are working to reduce the amount of sodium in food to help prevent children from experiencing high blood pressure, heart disease, and stroke later in life. At the same time, we are working to secure free and healthy school meals for every child—beginning with setting a goal to deliver free school meals to nine million more children by 2032.

My Administration is also working to ensure our youth have access to the mental health care they need, making the largest investment in mental health ever. This includes over $2 billion in funding, including $1 billion through the Bipartisan Safer Communities Act, to help schools across the country train and hire new mental health counselors. We made it easier for schools to leverage Medicaid to deliver health care, including mental health care, to millions of children and youth. And we launched 988, the Suicide and Crisis Lifeline, which anyone can call, text, or chat to be connected to a trained crisis counselor, 24 hours a day, 7 days a week.

Americans deserve to live in a safe community, free from the threat of violence—and when it comes to our Nation's children, one of our most fundamental responsibilities is keeping them safe. In the United States, firearms are the leading cause of death for children. It is unacceptable. Children are exposed to violence and worry about school shootings happening to them, and this exposure and fear can lead to negative consequences for their school life, mental health, and more. That is why I signed the most significant gun safety law in nearly 30 years and have announced dozens of gun safety executive actions, including one that will improve the active shooter drills that nearly all students undergo. I also established the first-ever White House Office of Gun Violence Prevention, overseen by Vice President Harris. We have made significant progress, but we must do more. I continue to call on the Congress to ban assault weapons and high-capacity magazines, require safe storage of firearms, enact universal background checks, and end immunity for gun manufacturers.

Our Administration is also making historic investments to tackle the climate crisis, which is essential to protecting our children's futures. Every child should be able to turn on the faucet at home or school and have access to safe, clean water—that is why, through my Bipartisan Infrastructure Law, we are working to replace every lead pipe in America. My Inflation Reduction Act—the most significant investment in climate ever—is investing in air quality sensors so that we prevent communities from experiencing the harmful effects of pollution. And we have recommitted to conserving 30 percent of all our Nation's lands and waters by 2030 so that generations to come may enjoy them.

Our children deserve to grow up in a country that cares about their health, happiness, and opportunities for success. During Child Health Day, may we recommit to supporting our children and families so that they can thrive. And may we continue to build a future where every child can reach their full potential.

The Congress, by a joint resolution approved May 18, 1928, as amended (36 U.S.C. 105), has called for the designation of the first Monday in October as Child Health Day and has requested that the President issue a proclamation in observance of this day.

NOW, THEREFORE, I, JOSEPH R. BIDEN JR., President of the United States of America, do hereby proclaim Monday, October 7, 2024, as Child Health Day. I call upon families, child health professionals, faith-based and community organizations, and governments to help ensure that America's children stay safe and healthy.

IN WITNESS WHEREOF, I have hereunto set my hand this fourth day of October, in the year of our Lord two thousand twenty-four, and of the Independence of the United States of America the two hundred and forty-ninth.

[FR Doc. 2024-23458

Filed 10-8-24; 8:45 am]

Billing code 3395-F4-P